DEPARTMENT OF COMMERCE

International Trade Administration

Expected Non-Market Economy Wages: Request for Comments on 2009 Calculation

AGENCY: Import Administration, International Trade Administration, Department of Commerce.

ACTION: Request for comments.

SUMMARY: The Department of Commerce (“Department'”) has a longstanding practice of calculating expected non-market economy (“NME”) wages for use as the surrogate value for direct labor in antidumping proceedings involving NME countries. These expected NME wages are calculated annually in accordance with the Department's regulations, see 19 CFR 351.408(c)(3). This notice constitutes the Department's 2009 expected NME wages, which were calculated from 2007 data made available in 2009 according to the Department's revised methodology described in the Federal Register notice entitled Antidumping Methodologies: Market Economy Inputs, Expected Non-Market Economy Wages, Duty Drawback; and Request for Comments, 71 FR 61716, Oct. 19, 2006 (hereafter, the Antidumping Methodologies notice). The Department further provides the public with an opportunity to comment on potential clerical errors in the calculation. Id.

DATES: Any comments must be submitted no later than 10 days after publication of this notice.

ADDRESSES: Written comments (original and six copies) should be sent to Ronald Lorentzen, Acting Assistant Secretary for Import Administration, U.S. Department of Commerce, Central Records Unit, Room 1870, 14th Street and Pennsylvania Avenue, NW., Washington, DC 20230.

FOR FURTHER INFORMATION CONTACT: Bobby Wong, Senior International Trade Analyst, China/NME Group, Import Administration, U.S. Department of Commerce, 14th Street and Constitution Avenue, NW., Washington, DC 20230, (202) 482-0409.

Background

The Department's regulations generally describe the methodology by which the Department calculates expected NME wages. For labor, the Secretary will use regression-based wage rates reflective of the observed relationship between wages and national income in market economy countries. The Secretary will calculate the wage rate to be applied in non-market economy proceedings each year.¹ The calculation will be based on current data, and will be made available to the public. See 19 CFR 351.408(c)(3).

¹ Pursuant to the Antidumping Methodologies Notice, 71 FR 61722, the Department intends to publish the annual revisions of the expected NME wage rates on its Web site in the fall. Since there is no fixed deadline for the submission of the relevant country data to the World Bank and ILO, the Department cannot specify a date certain by which the revision will be published. We can say, however, that because not all countries submit their data at the same time and because the Department must wait until all relevant data is submitted, publication of the revision will likely take place in late fall.

The Department's expected NME wages are calculated each year in two steps. First, the relationship between hourly wage rates (obtained from the International Labour Organization's (“ILO”) Yearbook of Labour Statistics) and per-capita gross national income (“GNI”) (obtained from the World Bank) is estimated using ordinary least squares (“OLS”) regression analysis. Second, the GNI of each of the countries designated by the Department to be an NME is applied to the regression, which yields an expected hourly wage rate for each NME.

The Department published a notice in the Federal Register on October 19, 2006, which detailed its revised methodology for calculating expected NME wages in antidumping proceedings involving NME countries. See the Antidumping Methodologies notice. In that notice, the Department stated that “{e}ach year, the Department's annual calculation will be subject to public notice prior to the adoption of the resulting expected NME wage rates for use in antidumping proceedings. Comment will be requested only with regard to potential clerical errors in the Department's calculation.” Antidumping Methodology notice, 71 FR 61722. This notice constitutes the Department's 2009 calculation of expected NME wages in Attachment 1, which were calculated from 2007 data made available in 2009 according to the Department's revised methodology described in the Antidumping Methodologies notice. The Department is requesting public comment only on the potential clerical errors in the calculation. Comments with regard to the methodology were addressed in the Antidumping Methodologies notice and will not be considered.

In order to facilitate a full opportunity for comment, and because the underlying data are voluminous, the preliminary results and underlying data for the preliminary 2009 expected NME wages calculation have been posted on the Import Administration Web site (http://www.ia.ita.doc.gov). This preliminary calculation will not be used for antidumping purposes until it has been finalized by the Department following the public comment period.

Submission of Comments

Persons wishing to comment on clerical errors in the Department's 2009 calculation of expected NME wages presented in Attachment 1 should file one signed original and six copies of each set of comments by the date specified above. The Department will consider all comments regarding clerical errors received before the close of the comment period. Comments received after the end of the comment period will be considered, if possible, but their consideration cannot be assured. The Department will not accept comments accompanied by a request that a part or all of the material be treated confidentially because of its business proprietary nature or for any other reason. The Department will return such comments and materials to the persons submitting the comments and will not consider them. All comments responding to this notice will be a matter of public record and will be available for inspection and copying at Import Administration's Central Records Unit, Room 1117. The Department requires that comments be submitted in written form. The Department recommends submission of comments in electronic form to accompany the required paper copies. Comments filed in electronic form should be submitted either by e-mail to the Webmaster below, or on CD-ROM, as comments submitted on diskettes are likely to be damaged by postal radiation treatment. Comments received in electronic form will be made available to the public in Portable Document Format (“PDF”) on the Internet at the Import Administration Web site at the following address: http://www.ia.ita.doc.gov. Any questions concerning file formatting, document conversion, access on the Internet, or other electronic filing issues should be addressed to Andrew Lee Beller, Import Administration Webmaster, at (202) 482-0866, e-mail address: Webmaster-support@ita.doc.gov.

Dated: September 29, 2009.
Ronald K. Lorentzen,
Acting Assistant Secretary for Import Administration.

Attachment 1—2009 Calculation of Expected NME Wages

Following the criteria and methodology described in the Antidumping Methodologies notice, and using the data available to the Department as of September 22, 2009, the Department used 2006 and 2007 data in Chapter 5B of the International Labour Statistics (“ILO”) that had available and suitable “earnings” data for 88 entities: Albania, Andorra, Argentina, Armenia, Australia, Austria, Azerbaijan, Bahrain, Belgium, Bermuda, Bosnia and Herzegovina, Botswana, Bulgaria,² Canada, Chile, China, Colombia, Costa Rica, Croatia, Cuba, Cyprus, Czech Republic, Denmark, Egypt, El Salvador, Estonia, Finland, France, Georgia, Germany, Gibraltar, Guam, Guatemala, Guyana, Honduras, Hong Kong, Hungary, Iceland, India, Indonesia, Ireland, Isle of Man, Israel, Japan, Jersey, Kazakhstan, Republic of Korea, Kyrgyzstan, Latvia, Lithuania, Luxembourg, Macau, Macedonia, Malta, Mauritius, Mexico, Moldova, Mongolia, Montenegro, New Zealand, Nicaragua, Norway, Panama, Paraguay, Peru, Philippines, Poland, Portugal, Puerto Rico, Qatar, Romania, Russian Federation, Serbia, Seychelles, Singapore, Slovakia, Slovenia, South Africa, Spain, Sri Lanka, Sweden, Switzerland, Taiwan, Ukraine, United Kingdom, United States, Virgin Islands (U.S.), and West Bank and Gaza Strip.

² On August 11, 2008, the United Nations Department of Economic and Social Affairs published the 4th revision of the International Standard Industrial Classification of All Economic Activities (“ISIC classification”). Therefore, with respect to the data selection criteria established in the Antidumping Methodologies Notice, where more than one record in the ILO database meet the requirements, the Department has prioritized the most recent update of the ISIC classification, ISIC Rev.4-C—manufacturing, over previous revisions. See Antidumping Methodologies Notice, 71 FR 61722.

Within the earnings data set above, for 2006 and 2007, Armenia, Azerbaijan, China, Georgia, Kyrgyz Republic (Kyrgyzstan), and Moldova, were not included in the regression because they are designated as NME countries by the Department.³

³ The Department considers Armenia, Azerbaijan, Belarus, The People's Republic of China, Georgia, Kyrgyz Republic, Moldova, Tajikistan, Uzbekistan, and Vietnam to be non-market economies.

Of the remaining 82 entities, for the reasons further discussed below, 16 additional entities were excluded from the regression data set.

The Department notes that the earnings data from Switzerland and Paraguay appear to be aberrant, and may be the result of a typographical or reporting error by the ILO Web site, and has thus been excluded from the regression data set.

There were no 2007 GNI data available for Andorra, Bahrain, Bermuda, Cuba, Gibraltar, Guam, Isle of Man, Jersey, Puerto Rico, Qatar, Taiwan, Virgin Islands (U.S.), and West Bank and Gaza Strip.

The Department also excluded Bosnia & Herzegovina, as the IFS CPI datum was unavailable to inflate the entities' reported 2006 ILO earnings.

There were no further entities eliminated based on the availability of the 2006 and 2007 earnings, CPI, GNI, or exchange rate data for the remaining 66 entities.

Accordingly, the Department ran its preliminary 2009 expected NME wage regression on the following 66 countries: Albania, Argentina, Australia, Austria, Belgium, Botswana, Bulgaria, Canada, Chile, Colombia, Costa Rica, Croatia, Cyprus, Czech Republic, Denmark, Egypt, El Salvador, Estonia, Finland, France, Germany, Guatemala, Guyana, Honduras, Hong Kong, Hungary, Iceland, India, Indonesia, Ireland, Israel, Japan, Kazakhstan, Korea, Latvia, Lithuania, Luxembourg, Macao, Macedonia, Malta, Mauritius, Mexico, Mongolia, Montenegro, New Zealand, Nicaragua, Norway, Panama, Peru, Philippines, Poland, Portugal, Romania, Russia, Serbia, Seychelles, Singapore, Slovak Republic, Slovenia, South Africa, Spain, Sri Lanka, Sweden, Ukraine, United Kingdom, and the United States.

Following the data compilation and regression methodology described in the Antidumping Methodologies notice, and using GNI and wage data for Base Year 2007, the regression results are: Expected Wages = 0.0004265(GNI)—0.2616639.

| 2007 GNI | Expected wages
Armenia | 2,580.00 | 1.36
Azerbaijan | 2,710.00 | 1.42
Belarus | 4,240.00 | 2.07
China (PRC) | 2,360.00 | 1.27
Georgia | 2,090.00 | 1.15
Kyrgyz Republic | 610.00 | 0.52
Moldova | 1,130.00 | 0.74
Tajikistan | 460.00 | 0.46
Uzbekistan | 730.00 | 0.57
Vietnam | 770.00 | 0.59

The World Bank did not publish a GNI for Turkmenistan.

As stated above, the full preliminary results and underlying data for the 2009 expected NME wages calculation have been posted on the Import Administration Web site (http://ia.ita.doc.gov).

[FR Doc. E9-24231 Filed 10-6-09; 8:45 am]

BILLING CODE P